DEPARTMENT OF JUSTICE

[AAG/A Order No. 007-2003]

Privacy Act of 1974; System of Records

Pursuant to the provisions of the Privacy Act of 1974 (5 U.S.C. 552a), notice is hereby given that the Department of Justice proposes to establish a new system of records to be maintained by the Immigration and Naturalization Service (INS). The Nonimmigrant Information System (NIIS), JUSTICE/INS-036, is a new system of records for which no public notice consistent with the provisions of 5 U.S.C. 552a (e)(4) and (11) has been published.

In accordance with 5 U.S.C. 552a(e)(4) and (11), the public is given a 30-day period in which to comment on proposed new routine use disclosures. The Office of Management and Budget (OMB), which has oversight responsibility under the Act, requires a 40-day period in which to conclude its review of the system. Therefore, please submit any comments by (insert date 30 days from the publication date of this notice). The public, OMB, and the Congress are invited to submit any comments to Mary Cahill, Management Analyst, Management and Planning Staff, Justice Management Division, Department of Justice, Washington, DC 20530 (Room 1400, National Place Building).

In accordance with 5 U.S.C. 552a(r), the Department has provided a report to OMB and the Congress on this system.

Dated: January 21, 2003.
Paul R. Corts,
Assistant Attorney General for Administration.

JUSTICE/INS-036

SYSTEM NAME:

Nonimmigrant Information System (NIIS).

SYSTEM LOCATION:

The NIIS database and application is maintained at the Department of Justice Data Center (JDC-D) in Dallas, Texas. The system is accessible at Immigration and Naturalization Service (INS) offices at Headquarters, Regional and District offices, Service Centers, sub-offices, Ports-of-entry and foreign offices as detailed in JUSTICE/INS-999, last published in the Federal Register on October 17, 2002 (67 FR 64136) and at http://www.INS.gov.

CATEGORIES OF INDIVIDUALS COVERED BY THE SYSTEM:

Immigrants and nonimmigrants entering and departing the United States. Please note that this system primarily pertains to nonimmigrants, who are generally not protected by the Privacy Act. However, as some nonimmigrants change status and become lawful permanent residents and United States citizens, information pertaining to them may incidentally remain in this system. Accordingly, the purpose of this notice is to cover only the United States citizens (USCs) and lawful permanent residents (LPRs) who are included in this information system.

CATEGORIES OF RECORDS IN THE SYSTEM:

NIIS is a centralized mainframe INS application designed to create, update, and report nonimmigrant arrivals and departures to and from the United States. The system may also contain change of address information for non-immigrants and immigrants. (Please note: this notice covers only USCs and LPRs whose information is contained in this system.)

AUTHORITY FOR MAINTENANCE OF THE SYSTEM:

8 U.S.C. 1103 and 8 U.S.C. 1184.

PURPOSE(S):

NIIS is a repository of records tracking persons arriving in or departing from the United States as nonimmigrant visitors. The system may also provide a central repository of baseline address information. Data in the system assists INS and other government agencies in law enforcement, intelligence, and counter-terrorism activities. NIIS is vital to the core mission of the INS in supporting immigration inspection at United States ports-of-entry and in capturing information used to evaluate nonimmigrant travel trends. (Please note: this notice covers only USCs and LPRs whose information is contained in this system.)

ROUTINE USES OF RECORDS MAINTAINED IN THE SYSTEM INCLUDING CATEGORIES OF USERS AND PURPOSE OF SUCH USES:

(Please note: this notice covers only USCs and LPRs whose information is contained in this system.)

A. In an appropriate proceeding before a court, grand jury, or administrative or regulatory body when records are determined by the Department of Justice to be arguably relevant to the proceeding.

B. To the appropriate agencyorganizationtask force, regardless of whether it is federal, state, local, foreign, or tribal, charged with the enforcement (e.g., investigation and prosecution) of a law (criminal or civil), regulation, or treaty, of any record contained in this system of records which indicates either on its face, or in conjunction with other information, a violation or potential violation of that law, regulation, or treaty.

C. To a Member of Congress or staff acting on the Member's behalf when the Member or staff requests the information on behalf of and at the request of the individual who is the subject of the record.

D. To the General Services Administration (GSA) and the National Archives and Records Administration (NARA) in records management inspections conducted under the authority of 44 U.S.C. 2904 and 2906.

E. To the news media and the public pursuant to 28 CFR 50.2 unless it is determined that release of the specific information in the context of a particular case would constitute an unwarranted invasion of personal privacy.

F. To contractors, grantees, experts, consultants, students, and others performing or working on a contract, service, grant, cooperative agreement, or other assignment for the Federal Government, when necessary to accomplish an agency function related to this system of records.

G. To a former employee of the Department for purposes of: responding to an official inquiry by a federal, state, or local government entity or professional licensing authority, in accordance with applicable Department regulations; or facilitating communications with a former employee that may be necessary for personnel-related or other official purposes where the Department requires information andor consultation assistance from the former employee regarding a matter within that person's former area of responsibility.

H. To a federal, state, tribal, local or foreign government agency in response to its request, in connection with the hiring or retention by such agency of an employee, the issuance of a security clearance, the reporting of an investigation of such an employee, the letting of a contract, or the issuance of a license, grant, loan or other benefit by the requesting agency, to the extent that the information is relevant and necessary to the requesting agency's decision on the matter.

POLICIES AND PRACTICES FOR STORING, RETRIEVING, ACCESSING, RETAINING, AND DISPOSING OF RECORDS IN THE SYSTEM:

STORAGE:

These records are stored in a mainframe computer database.

RETRIEVABILITY:

These records may be searched on a variety of data elements including name, place and date of entry or departure, or country of citizenship as listed in the travel documents used at the time of entry to the United States. An admission number, issued at each entry to the United States to track the particular admission, may also be used to identify a database record.

SAFEGUARDS:

Most INS offices are located in buildings under security guard, and access to premises is by official identification. Access to records in this system is by restricted password.

RETENTION AND DISPOSAL:

The following INS proposal for retention and disposal is pending approval by NARA. INS arrival and departure records will be sent to a remote contractor facility where the information from the data fields is keyed into the NIIS database. Hard copies are stored at the facility for 180 calendar days and then destroyed. Electronic records will remain in the database until the system is obsolete or superceded. Form AR-11 (“Alien's Change of Address Card”) is maintained for five years and then is destroyed.

SYSTEM MANAGER (S) AND ADDRESS:

Assistant Commissioner, Office of Inspections, Immigration and Naturalization Service, 425 I Street NW., Room 4064, Washington, DC 20536.

NOTIFICATION PROCEDURE:

Address inquiries to the system manager identified above.

RECORDS ACCESS PROCEDURE:

(Please note: this notice covers only USCs and LPRs whose information is contained in this system; only USCs and LPRs have records access rights under the Privacy Act.) Make all requests for access in writing to the Freedom of Information Act/Privacy Act (FOIA/PA) Officer at the nearest INS office, or the INS office maintaining the desired records (if known) by using the INS web page that contains a list of principal offices. Clearly mark the envelope and letter “Privacy Act Request.” Provide the A-file number and/or the full name, nationality, and date of birth, with a notarized signature or pursuant to 28 U.S.C. 1746, make a dated statement under penalty of perjury as a substitute for notarization, of the individual who is the subject of the record, and a return address.

CONTESTING RECORDS PROCEDURES:

(Please note: this notice covers only USCs and LPRs whose information is contained in this system.) Direct all requests to contest or amend information in the record to the FOIA/PA Officer at one of the addresses identified above. State clearly and concisely the information being contested, the reason for contesting it, and the proposed amendment thereof. Clearly mark the envelope “Privacy Act Request.” The record must be identified in the same manner as described for making a request for access.

RECORD SOURCE CATEGORIES:

Basic information is obtained from individuals, the individual's attorney/representative, INS officials, and other federal, state, local, and foreign agencies.

SYSTEMS EXEMPTED FROM CERTAIN PROVISIONS OF THE ACT:

None.

[FR Doc. 03-2253 Filed 1-30-03; 8:45 am]

BILLING CODE 4410-10-P